NATIONAL AERONAUTICS AND SPACE ADMINISTRATION

[Notice (12-005)]

NASA Advisory Council; Science Committee; Astrophysics Subcommittee; Meeting

AGENCY: National Aeronautics and Space Administration.

ACTION: Notice of meeting.

SUMMARY: In accordance with the Federal Advisory Committee Act, Public Law 92-463, as amended, the National Aeronautics and Space Administration (NASA) announces a meeting of the Astrophysics Subcommittee of the NASA Advisory Council (NAC). This Subcommittee reports to the Science Committee of the NAC. The meeting will be held for the purpose of soliciting, from the scientific community and other persons, scientific and technical information relevant to program planning.

DATES: Thursday, February 23, 2012, 9 a.m. to 5 p.m., and Friday, February 24, 2012, 9 a.m. to 4 p.m., local time.

ADDRESSES: NASA Headquarters, 300 E Street SW., Rooms 8R40 and 7H45, respectively, Washington, DC 20546.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. This meeting will also be available telephonically and by WebEx. Any interested person may call the USA toll free conference call number (888) 323-9874, pass code APS, to participate in this meeting by telephone. The WebEx link is https://nasa.webex.com, meeting number on February 23 is 998 332 204, and password APS-February23; the meeting number on February 24 is 996 596 165, and password APS-February24. The agenda for the meeting includes the following topics:

—Astrophysics Division Update

—Update on Balloons Return to Flight Changes

—James Webb Space Telescope Update

—Program Analysis Groups' Activity Update

It is imperative that the meeting be held on these dates to accommodate the scheduling priorities of the key participants. Attendees will be requested to sign a register and to comply with NASA security requirements, including the presentation of a valid picture ID, before receiving an access badge. Foreign nationals attending this meeting will be required to provide a copy of their passport, visa, or green card in addition to providing the following information no less than 10 working days prior to the meeting: Full name; gender; date/place of birth; citizenship; visa information (number, type, expiration date); passport information (number, country, expiration date); employer/affiliation information (name of institution, address, country, telephone); title/position of attendee. To expedite admittance, attendees with U.S. citizenship or a green card may provide identifying information 3 working days in advance by contacting Marian Norris via email at mnorris@nasa.gov or by telephone at (202) 358-4452.

Patricia D. Rausch,
Advisory Committee Management Officer, National Aeronautics and Space Administration.

[FR Doc. 2012-1759 Filed 1-26-12; 8:45 am]

BILLING CODE 7510-13-P